DEPARTMENT OF ENERGY

Federal Energy Regulatory Commission

[Docket No. RM11-2-000]

Smart Grid Interoperability Standards; Supplemental Notice of Technical Conference

January 13, 2011.

On December 21, 2010, the Federal Energy Regulatory Commission announced that a Technical Conference on Smart Grid Interoperability Standards will be held on Monday, January 31, 2011, beginning at 1 p.m. (EST). The staff-led conference will be held in the Commission Meeting Room at the Commission's headquarters at 888 First Street, NE., Washington, DC 20426. The conference will be open for the public to attend and advance registration is not required. Members of the Commission may attend the conference.

As described in the earlier notice, the purpose of the technical conference is to obtain further information to aid the Commission's determination of whether there is “sufficient consensus” that the five families of standards posted by the National Institute of Standards and Technology are ready for Commission consideration in a rulemaking proceeding, as directed by section 1305(d) of the Energy Independence and Security Act of 2007.

Attached to this supplemental notice is an agenda for the conference. If any changes are made, the revised agenda will be posted prior to the event on the Calendar of Events on the Commission's Web site, http://www.ferc.gov.

The conference will be Webcast. Anyone with Internet access who desires to listen to this event can do so by navigating to the Calendar of Events on the Commission's web site and locating this event in the Calendar. The event will contain a link to the webcast. The Capitol Connection provides technical support for webcasts and offers the option of listening to the meeting via phone-bridge for a fee. If you have any questions, visit http://www.CapitolConnection.org or call 703-993-3100.

A transcript of the conference will be immediately available from Ace Reporting Company (202-347-3700 or 1-800-336-6646) for a fee.

All interested parties are invited to file written comments on or before March 2, 2011 that relate to the issues discussed during the technical conference. Commenters are encouraged to use the questions presented in the attached agenda for the conference to organize their comments. Reply comments may be submitted on or before March 16, 2011.

Commission conferences are accessible under section 508 of the Rehabilitation Act of 1973. For accessibility accommodations please send an e-mail to accessibility@ferc.gov or call toll free 1-866-208-3372 (voice) or 202-208-8659 (TTY); or send a Fax to 202-208-2106 with the required accommodations.

For more information on this conference, please contact Sandra Waldstein at Sandra.Waldstein@ferc.gov or (202) 502-8092, Ray Palmer at Ray.Palmer@ferc.gov or (202) 502-6569, or Annabelle Lee at Annabelle.Lee@ferc.gov or (202) 502-8709.

Kimberly D. Bose,
Secretary.

[FR Doc. 2011-1280 Filed 1-21-11; 8:45 am]

BILLING CODE 6717-01-P